SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: August 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Water Source Approval—Issued Under 18 CFR 806.22(e)

1. LSC Communications US, LLC ; Pad ID: Lancaster West Plant; ABR-202208003; City of Lancaster, Lancaster County, Pa.; Consumptive Use of Up to 0.099 mgd; Approval Date: August 26, 2022.

Water Source Approval—Issued Under 18 CFR 806.22(f)

1. Chesapeake Appalachia, L.L.C.; Pad ID: Champluvier; ABR-201007105.R2; Tuscarora Township, Bradford County, Pa.; Consumptive Use of Up to 7.5000 mgd; Approval Date: August 22, 2022.

2. Chesapeake Appalachia, L.L.C.; Pad ID: Dewees; ABR-201007063.R2; Rome Township, Bradford County, Pa.; Consumptive Use of Up to 7.5000 mgd; Approval Date: August 22, 2022.

3. Chesapeake Appalachia, L.L.C.; Pad ID: Kenyon; ABR-20100557.R2; Overton Township, Bradford County, Pa.; Consumptive Use of Up to 7.5000 mgd; Approval Date: August 22, 2022.

4. Chesapeake Appalachia, L.L.C.; Pad ID: Lopatofsky NEW; ABR-201007100.R2; Washington Township, Wyoming County, Pa.; Consumptive Use of Up to 7.5000 mgd; Approval Date: August 22, 2022.

5. Chesapeake Appalachia, L.L.C.; Pad ID: Ruth; ABR-201507008.R1; Meshoppen Township, Wyoming County, Pa.; Consumptive Use of Up to 7.5000 mgd; Approval Date: August 22, 2022.

6. Coterra Energy Inc.; Pad ID: DeckerT P1; ABR-201504005.R1; Harford Township, Susquehanna County, Pa.; Consumptive Use of Up to 5.0000 mgd; Approval Date: August 22, 2022.

7. Coterra Energy Inc.; Pad ID: Dobrosielski P1; ABR-201107051.R2; Auburn Township, Susquehanna County, Pa.; Consumptive Use of Up to 5.0000 mgd; Approval Date: August 22, 2022.

8. Coterra Energy Inc.; Pad ID: Rayias P1; ABR-20100432.R2; Dimock Township, Susquehanna County, Pa.; Consumptive Use of Up to 5.0000 mgd; Approval Date: August 22, 2022.

9. Coterra Energy Inc.; Pad ID: ReillyJ P1; ABR-201207017.R2; Gibson Township, Susquehanna County, Pa.; Consumptive Use of Up to 5.0000 mgd; Approval Date: August 22, 2022.

10. Inflection Energy (PA) LLC; Pad ID: Converse Well Site; ABR-201707001.R1; Mill Creek Township, Lycoming County, Pa.; Consumptive Use of Up to 4.0000 mgd; Approval Date: August 22, 2022.

11. Repsol Oil & Gas USA, LLC; Pad ID: Clegg 722; ABR-201007119.R2; McNett Township, Lycoming County, Pa.; Consumptive Use of Up to 6.0000 mgd; Approval Date: August 22, 2022.

12. Repsol Oil & Gas USA, LLC; Pad ID: CRANK (03 067) O; ABR-20100430.R2; Columbia Township, Bradford County, Pa.; Consumptive Use of Up to 6.0000 mgd; Approval Date: August 22, 2022.

13. Repsol Oil & Gas USA, LLC; Pad ID: FEUSNER (03 045) J; ABR-201007095.R2; Columbia Township, Bradford County, Pa.; Consumptive Use of Up to 6.0000 mgd; Approval Date: August 22, 2022.

14. Repsol Oil & Gas USA, LLC; Pad ID: KIRKOWSKI (01 066) J; ABR-201007091.R2; Canton Township, Bradford County, Pa.; Consumptive Use of Up to 6.0000 mgd; Approval Date: August 22, 2022.

15. Repsol Oil & Gas USA, LLC; Pad ID: MCMURRAY (01 031) C; ABR-201007054.R2; Canton Township, Bradford County, Pa.; Consumptive Use of Up to 6.0000 mgd; Approval Date: August 22, 2022.

16. Seneca Resources Company, LLC; Pad ID: Baldwin 881; ABR-201007068.R2; Farmington Township, Tioga County, Pa.; Consumptive Use of Up to 4.0000 mgd; Approval Date: August 22, 2022.

17. Seneca Resources Company, LLC; Pad ID: Cleveland 616; ABR-201007089.R2; Delmar Township, Tioga County, Pa.; Consumptive Use of Up to 4.0000 mgd; Approval Date: August 22, 2022.

18. Seneca Resources Company, LLC; Pad ID: Lehmann Pad K; ABR-201007115.R2; Covington Township, Tioga County, Pa.; Consumptive Use of Up to 4.0000 mgd; Approval Date: August 22, 2022.

19. Seneca Resources Company, LLC; Pad ID: Reese 289; ABR-201007057.R2; Charleston Township, Tioga County, Pa.; Consumptive Use of Up to 4.0000 mgd; Approval Date: August 22, 2022.

20. Seneca Resources Company, LLC; Pad ID: Seeley 524; ABR-201007122.R2; Rutland Township, Tioga County, Pa.; Consumptive Use of Up to 4.0000 mgd; Approval Date: August 22, 2022.

21. Seneca Resources Company, LLC; Pad ID: Wolfe 1114; ABR-201007098.R2; Nelson Township, Tioga County, Pa.; Consumptive Use of Up to 4.0000 mgd; Approval Date: August 22, 2022.

22. BKV Operating, LLC; Pad ID: Ruark East 1 1H; ABR-201008001.R2; Washington Township, Wyoming County, Pa.; Consumptive Use of Up to 5.0000 mgd; Approval Date: August 26, 2022.

23. Chesapeake Appalachia, L.L.C.; Pad ID: Boy Scouts Drilling Pad; ABR-201207023.R2; Elkland Township, Sullivan County, Pa.; Consumptive Use of Up to 2.0000 mgd; Approval Date: August 26, 2022.

24. Chesapeake Appalachia, L.L.C.; Pad ID: EDF NEW; ABR-201007125.R2; Mehoopany Township, Wyoming County, Pa.; Consumptive Use of Up to 7.5000 mgd; Approval Date: August 26, 2022.

25. Chesapeake Appalachia, L.L.C.; Pad ID: Petty; ABR-201007126.R2; Leroy Township, Bradford County, Pa.; Consumptive Use of Up to 7.5000 mgd; Approval Date: August 26, 2022.

26. EQT ARO LLC; Pad ID: COP Tr 285 Pad F; ABR-201008007.R2; Chapman Township, Clinton County, Pa.; Consumptive Use of Up to 4.0000 mgd; Approval Date: August 26, 2022.

27. EQT ARO LLC; Pad ID: COP Tr 356 Pad A; ABR-201007073.R2; Cummings Township, Lycoming County, Pa.; Consumptive Use of Up to 4.0000 mgd; Approval Date: August 26, 2022.

28. EQT ARO LLC; Pad ID: COP Tr 356 Pad I; ABR-201007114.R2; Cummings Township, Lycoming County, Pa.; Consumptive Use of Up to 4.0000 mgd; Approval Date: August 26, 2022.

29. Chesapeake Appalachia, L.L.C.; Pad ID: Felter-NEW; ABR-201008026.R2; Wyalusing Township, Bradford County, Pa.; Consumptive Use of Up to 7.5000 mgd; Approval Date: August 30, 2022.

30. Chesapeake Appalachia, L.L.C.; Pad ID: Joanclark; ABR-201008025.R2; Fox Township, Sullivan County, Pa.; Consumptive Use of Up to 7.5000 mgd; Approval Date: August 30, 2022.

31. Coterra Energy Inc.; Pad ID: BusikJ P1; ABR-201206001.R2; Dimock Township, Susquehanna County, Pa.; Consumptive Use of Up to 5.0000 mgd; Approval Date: August 30, 2022.

32. Coterra Energy Inc.; Pad ID: ForwoodE P1; ABR-201506002.R1; Lenox Township, Susquehanna County, Pa.; Consumptive Use of Up to 5.0000 mgd; Approval Date: August 30, 2022.

33. EQT ARO LLC; Pad ID: Charles J. McNamee Pad B; ABR-201008016.R2; Cascade Township, Lycoming County, Pa.; Consumptive Use of Up to 4.0000 mgd; Approval Date: August 30, 2022.

34. EQT ARO LLC; Pad ID: Elbow Pad C; ABR-201008017.R2; Cogan House Township, Lycoming County, Pa.; Consumptive Use of Up to 4.0000 mgd; Approval Date: August 30, 2022.

35. EQT ARO LLC; Pad ID: Jack L. Hipple Pad A; ABR-201008021.R2; Gamble Township, Lycoming County, Pa.; Consumptive Use of Up to 4.0000 mgd; Approval Date: August 30, 2022.

36. Repsol Oil & Gas USA, LLC; Pad ID: ALDERSON (05 009) V; ABR-201008022.R2; Pike Township, Bradford County, Pa.; Consumptive Use of Up to 6.0000 mgd; Approval Date: August 30, 2022.

37. Repsol Oil & Gas USA, LLC; Pad ID: McNett 708; ABR-201008003.R2; Liberty Township, Tioga County, Pa.; Consumptive Use of Up to 6.0000 mgd; Approval Date: August 30, 2022.

38. Seneca Resources Company, LLC; Pad ID: Miller 394; ABR-201008005.R2; Delmar Township, Tioga County, Pa.; Consumptive Use of Up to 4.0000 mgd; Approval Date: August 30, 2022.

39. EQT ARO LLC; Pad ID: Don J. Davis Pad A; ABR-201008028.R2; Gamble Township, Lycoming County, Pa.; Consumptive Use of Up to 4.0000 mgd; Approval Date: August 31, 2022.

40. Seneca Resources Company, LLC; Pad ID: DCNR Tract 595 Pad I; ABR-201008043.R2; Bloss Township, Tioga County, Pa.; Consumptive Use of Up to 4.0000 mgd; Approval Date: August 31, 2022.

41. Seneca Resources Company, LLC; Pad ID: Hazelton 424; ABR-20100626.R2; Shippen Township, Tioga County, Pa.; Consumptive Use of Up to 4.0000 mgd; Approval Date: August 31, 2022.

Authority: Public Law 91-575, 84 Stat. 1509 et seq., 18 CFR parts 806 and 808.

Dated: September 9, 2022.
Jason E. Oyler,
General Counsel and Secretary to the Commission,

[FR Doc. 2022-19852 Filed 9-13-22; 8:45 am]

BILLING CODE 7040-01-P